FEDERAL MINE SAFETY AND HEALTH REVIEW COMMISSION

Sunshine Act Meeting Notice

TIME AND DATE: 10:00 a.m., Tuesday, December 13, 2016.

PLACE: The Richard V. Backley Hearing Room, Room 511N, 1331 Pennsylvania Avenue NW., Washington, DC 20004 (enter from F Street entrance).

STATUS: Closed.

MATTERS TO BE CONSIDERED: The Commission will consider and act upon the following in closed session: Daniel B. Lowe and Matthew Varady v. Veris Gold USA, Inc., et al. (Issues include whether the Administrative Law Judge erred in dismissing two discrimination cases where the original operator was the subject of bankruptcy proceedings.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Dated: December 5, 2016.
Emogene Johnson,
Administrative Assistant.

[FR Doc. 2016-29450 Filed 12-5-16; 4:15 pm]

BILLING CODE 6735-01-P